Title 3—

The President

Proclamation 7421 of April 2, 2001

National Former Prisoner of War Recognition Day, 2001

By the President of the United States of America

A Proclamation

From our earliest beginnings as a Nation, America has been blessed with citizens who have been willing to fight and die to preserve our shared ideals. We owe our freedom to men and women who have responded heroically to the call of patriotic duty. In times of peace and war, in times of great conflict, and even in peacetime, they stood tall. Facing the horrors of combat, young Americans placed themselves squarely in harm's way.

Among all these ranks of brave Americans, our living former prisoners of war form a living testament to the courage Americans have shown in defending liberty. During World War II and the conflicts in Korea and Vietnam, prisoners endured, in addition to separation from their loved ones, isolation, disease, and torture. More recently, American troops in the Persian Gulf stood bravely in the face of enemy capture and returned home with honor.

The men and women who suffered through the atrocious conditions of internment deserve our utmost gratitude and respect. Their fortitude serves as an example of placing the ideals of freedom and self-government above one's own interests. We also owe a debt of gratitude to their families for weathering agonizing uncertainty while demonstrating support for their loved ones' service to country.

In World War II, patriotic Americans stepped forward without hesitation to carry America's honor into unknown battlefields. Many thousands gave their lives as the ultimate sacrifice, both on the battlefield and in the deadly prison camps of the Pacific and Europe.

We are particularly mindful this month of anniversaries reminding us of the contributions former prisoners of war have made to our freedom. April marks the anniversary of the first return of American POWs from North Korea during Operation Little Switch. These prisoners endured bitter cold and inadequate food, clothing, and medical care in their brave effort to stop the spread of communism.

This April is also the 28th anniversary of the end of Operation Homecoming, in which our Vietnam-era POWs returned to freedom. Americans held prisoner during that war, some for as long as 9 years, were subject to torture and the horrors of isolation. They survived only through their faith, character, and patriotism.

On this date, we remember the sacrifices of those imprisoned while serving America. We remain committed to ensuring that future generations know of their heroism in order to fully appreciate their courage and resolve. Although they returned home safely, their physical and emotional scars remain as a reminder of the high price of liberty.

NOW, THEREFORE, I, GEORGE W. BUSH, President of the United States of America, by virtue of the authority vested in me by the Constitution and laws of the United States, do hereby proclaim April 9, 2001, as National Former Prisoner of War Recognition Day. I call upon all the people of the United States to join me in remembering former American prisoners of war who suffered the hardships of enemy captivity. I also call upon Federal, State, and local government officials and private organizations to observe this day with appropriate ceremonies and activities.

IN WITNESS WHEREOF, I have hereunto set my hand this second day of April, in the year of our Lord two thousand one, and of the Independence of the United States of America the two hundred and twenty-fifth.

B

[FR Doc. 01-8581

Filed 4-4-01; 8:45 am]

Billing code 3195-01-P